DEPARTMENT OF TRANSPORTATION

Federal Aviation Administration

14 CFR Part 39

[Docket No. FAA-2005-21109; Directorate Identifier 2005-CE-21-AD; Amendment 39-14232; AD 2005-17-11]

RIN 2120-AA64

Airworthiness Directives; The Cessna Aircraft Company Models 525, 525A, and 525B Airplanes

AGENCY: Federal Aviation Administration (FAA), DOT.

ACTION: Final rule.

SUMMARY: The FAA adopts a new airworthiness directive (AD) for certain The Cessna Aircraft Company (Cessna) Models 525, 525A, and 525B airplanes. This AD requires you to install identification sleeves on the wiring for both engine fire extinguisher bottles. This AD results from reports of incorrectly connecting wires to the engine fire extinguisher bottles. We are issuing this AD to prevent incorrect installation of the wires to the engine fire extinguisher bottles, which could result in failure of the engine fire extinguisher bottles to discharge when activated. This failure could lead to the inability to control an engine fire.

DATES: This AD becomes effective on October 7, 2005.

As of October 7, 2005, the Director of the Federal Register approved the incorporation by reference of certain publications listed in the regulation.

ADDRESSES: To get the service information identified in this AD, contact The Cessna Aircraft Company, Citation Marketing Division, Product Support, P.O. Box 7706, Wichita, Kansas 67277; telephone: (316) 517-6000; facsimile: (316) 517-8500.

To view the AD docket, go to the Docket Management Facility; U.S. Department of Transportation, 400 Seventh Street, SW., Nassif Building, Room PL-401, Washington, DC 20590-001 or on the Internet at http://dms.dot.gov. The docket number is FAA-2005-21109; Directorate Identifier 2005-CE-21-AD.

FOR FURTHER INFORMATION CONTACT: James P. Galstad, Aerospace Engineer, FAA, Wichita ACO, 1801 Airport Road, Mid-Continent Airport, Wichita, Kansas 67209; telephone: (316) 946-4135; facsimile: (316) 946-4107.

SUPPLEMENTARY INFORMATION:

Discussion

What events have caused this AD? Wires connected to the engine fire extinguisher bottles on Cessna Models 525B and 560XL airplanes were found reversed. Installing the wiring in an incorrect configuration resulted from a lack of clarity in the wiring schematics for connecting the wires and testing the connections.

The same lack of clarity in the wiring schematics for connecting the wires and testing the connections also exists for Cessna Models 525 and 525A airplanes.

An incorrect wiring configuration installation could go undetected because the existing circuit checks appear normal during routine checks. However, the engine fire extinguisher bottles will not discharge when activated.

What is the potential impact if FAA took no action? If not detected and corrected, incorrect wiring of the engine fire extinguisher bottles could result in failure of the engine fire extinguisher bottles to discharge when activated. This failure could lead to the inability to control an engine fire.

Has FAA taken any action to this point? We issued a proposal to amend part 39 of the Federal Aviation Regulations (14 CFR part 39) to include an AD that would apply to certain Cessna Models 525, 525A, and 525B airplanes. This proposal was published in the Federal Register as a notice of proposed rulemaking (NPRM) on May 19, 2005 (70 FR 28857). The NPRM proposed to require you to do the following:

—Install identification sleeves on wires connecting to the engine fire extinguisher bottles;

—Reconnect the wires to the engine fire extinguisher bottles; and

—Test the wiring for correct installation.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 578 airplanes in the U.S. registry.

What is the cost impact of this AD on owners/operators of the affected airplanes? We estimate the following costs to do the modification:

Labor cost | Parts cost | Total cost per airplane | Total cost on U.S. operators
4 workhours × $65 per hour = $260 | Not applicable | $260 | $260 × 578 = $150,280.

Cessna will provide warranty credit for the modification to the extent stated in the supplemental data to the service information.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-21109; Directorate Identifier 2005-CE-21-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-17-11 The Cessna Aircraft Company: Amendment 39-14232; Docket No. FAA-2005-21109; Directorate Identifier 2005-CE-21-AD.

When Does This AD Become Effective?

(a) This AD becomes effective on October 7, 2005.

What Other ADs Are Affected by This Action?

(b) None.

What Airplanes Are Affected by This AD?

(c) This AD affects the following airplane models and serial numbers that are certificated in any category:

Model | Serial Nos.
525 | 525-0001 through 525-0600.
525A | 525A-0001 through 525A-0234.
525B | 525B-0001 through 525B-0035.

What Is the Unsafe Condition Presented in This AD?

(d) This AD is the result of reports about the possibility to incorrectly connect the wires to the engine fire extinguisher bottles. The actions specified in this AD are intended to prevent incorrect installation of the wires to the engine fire extinguisher bottles, which could result in failure of the engine fire extinguisher bottles to discharge when activated. This failure could lead to the inability to control an engine fire.

What Must I Do To Address This Problem?

(e) To address this problem, you must do the following:

Actions | Compliance | Procedures
(1) Install identification sleeves on the wires for both engine fire extinguisher bottles | Within the next 60 days or 100 hours time-in-service after October 7, 2005 (the effective date of this AD), whichever occurs first | Follow the Accomplishment Instructions in: (i) Cessna Citation Service Bulletin SB525-26-01; (ii) Cessna Citation Service Bulletin SB525A-26-02; or (iii) Cessna Citation Service Bulletin SB525B-26-01, all dated April 5, 2005, as applicable.
(2) Reconnect the wires to both engine fire extinguisher bottles | Before further flight after the sleeve installation required in paragraph (e)(1) of this AD | Use the service information specified in paragraphs (e)(1)(i) through (e)(1)(iii) of this AD.
(3) Test the wires for correct installation | Before further flight after reconnecting the wires as required in paragraph (e)(2) of this AD | Use the service information specified in paragraphs (e)(1)(i) through (e)(1)(iii) of this AD.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact James P. Galstad, Aerospace Engineer, FAA Wichita ACO, 1801 Airport Road, Mid-Continent Airport, Wichita, Kansas 67209; telephone: (316) 946-4135; facsimile: (316) 946-4107.

Does This AD Incorporate Any Material by Reference?

(g) You must do the actions required by this AD following the instructions in Cessna Citation Service Bulletin SB525-26-01; Cessna Citation Service Bulletin SB525A-26-02; and Cessna Citation Service Bulletin SB525B-26-01, all dated April 5, 2005 (as applicable). The Director of the Federal Register approved the incorporation by reference of this service bulletin in accordance with 5 U.S.C. 552(a) and 1 CFR part 51. To get a copy of this service information, contact The Cessna Aircraft Company, Citation Marketing Division, Product Support P.O. Box 7706, Wichita, Kansas 67277; telephone: (316) 517-6000; facsimile: (316) 517-8500. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-21109; Directorate Identifier 2005-CE-21-AD.

Issued in Kansas City, Missouri, on August 16, 2005.
Terry L. Chasteen,
Acting Manager, Small Airplane Directorate, Aircraft Certification Service.

[FR Doc. 05-16530 Filed 8-22-05; 8:45 am]

BILLING CODE 4910-13-P